DEPARTMENT OF THE INTERIOR

National Park Service

[NPS-NERO-PAGR-23556; PX.PR166532I.00.1]

Paterson Great Falls National Historical Park Advisory Commission; Postponement of Meeting

AGENCY: National Park Service, Interior.

ACTION: Notice.

SUMMARY: The July 2017 Paterson Great Falls National Historical Park Advisory Commission meeting has been postponed.

DATES: The meeting was scheduled for July 13, 2017, in Paterson, New Jersey, and will be rescheduled at a later date. We will publish a future notice with new meeting date and location.

FOR FURTHER INFORMATION CONTACT: Darren Boch, Superintendent and Designated Federal Officer, Paterson Great Falls National Historical Park, 72 McBride Avenue, Paterson, NJ 07501, (973) 523-2630, or email darren_boch@nps.gov.

SUPPLEMENTARY INFORMATION: The 9-member Commission advises the Secretary of the Interior in the development and implementation of the park's management plan.

Additional information is available in the meeting notice published on December 9, 2016 (81 FR 89145)

Authority: 16 U.S.C. 410lll; 5 U.S.C. Appendix 1-16.

Alma Ripps,
Chief, Office of Policy.

[FR Doc. 2017-16096 Filed 7-31-17; 8:45 am]

BILLING CODE 4312-52-P